NATIONAL SCIENCE FOUNDATION

Agency Information Collection Activities: Comment Request; NSF Small Business Innovation Research (SBIR) Program Phase I, NSF Small Business Technology Transfer (STTR) Program Phase I, and NSF SBIR/STTR Fast-Track Pilot Pre-submission Project Pitch Form

AGENCY: National Science Foundation.

ACTION: Notice.

SUMMARY: The National Science Foundation (NSF) is announcing plans to establish this collection. In accordance with the requirements of the Paperwork Reduction Act of 1995, we are providing opportunity for public comment on this action. After obtaining and considering public comment, NSF will prepare the submission requesting Office of Management and Budget (OMB) clearance of this collection for no longer than 3 years.

DATES: Written comments on this notice must be received by August 19, 2024 to be assured consideration. Comments received after that date will be considered to the extent practicable. Send comments to address below.

FOR FURTHER INFORMATION CONTACT: Suzanne H. Plimpton, Reports Clearance Officer, National Science Foundation, 2415 Eisenhower Avenue, Room E6347, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Title of Collection: NSF Small Business Innovation Research (SBIR) Program Phase I, NSF Small Business Technology Transfer (STTR) Program Phase I, and NSF Fast-Track Pilot Pre-submission Project Pitch Form.

OMB Control No.: 3145-NEW.

Expiration Date of Approval: Not applicable.

Abstract: The NSF Small Business Innovation Research Program (SBIR) Phase I, Small Business Technology Transfer Program (STTR) Phase I, and SBIR/STTR Fast-Track Pilot Project Pitch is an NSF SBIR/STTR pre-submission process that conveys information needed to direct the proposed SBIR/STTR project to the appropriate NSF Program Director (PD) for review and possible proposal submission invitation. The Project Pitch is to be submitted by the applying small business concern (as “proposer”) to the relevant NSF SBIR/STTR Phase I or Fast-Track Pilot technology topic. The Project Pitch outlines solicitation-specific aspects of the project (such as the proposed technology innovation)) and captures the same requested information, as outlined in the NSF SBIR/STTR Phase I and Fast-Track Program solicitations, but all within one secure, web-based form. Specifically, the form collects the submitting proposer company and team information, the proposed technology innovation; the technical objectives and challenges, and the market opportunity. The form also allows the proposer to choose (from a drop-down menu) the most relevant NSF SBIR/STTR Phase I and Fast-Track Pilot technical topic area, ensuring that the submitted Project Pitch goes to the most appropriate Program Director. For the SBIR/STTR Fast-Track Pilot submission, the Project Pitch encompasses the same questions as outlined in the Phase I Project Pitch but also seeks responses to three key eligibility requirements: NSF lineage, customer-discovery experience, and confirmation that the team members are currently employed by the company. These requirements expand on the details of the previously required information on the proposed technology innovation, the market opportunity, and the company and team, respectively.

Respondents: Small business concerns who submit proposals to NSF's SBIR/STTR Phase I and Fast-Track Pilot Programs.

Estimated Number of Annual Respondents: 2500.

Burden on the Public: 3 hours (per response) for an annual total of 7500 hours.

Dated: June 13, 2024.
Suzanne H. Plimpton,
Reports Clearance Officer, National Science Foundation.

[FR Doc. 2024-13380 Filed 6-17-24; 8:45 am]

BILLING CODE 7555-01-P